DEPARTMENT OF LABOR

Employment and Training Administration

[TA-W-52,128, TA-W-52,128A, and TA-W-52,128B]

Control Engineering Company, Pellston, MI; Control Engineering Company, Harbor Springs, MI; Control Engineering Company, Boyne City, MI; Notice of Negative Determination on Reconsideration

On December 8, 2003, the Department issued an Affirmative Determination Regarding Application for Reconsideration for the workers and former workers of the subject firm. The notice was published in the Federal Register on December 29, 2003 (68 FR 74972).

The Department initially denied TAA to workers of Control Engineering Company, Pellston, Harbor Springs, and Boyne City, Michigan because the “contributed importantly” group eligibility requirement of section 222(3) of the Trade Act of 1974, as amended, was not met. The “contributed importantly” test is generally demonstrated through a survey of customers of the workers' firm. The survey revealed that none of the respondents increased their purchases of imported automated material handling systems/AVG and sheet metal enclosures. The company did not import automated material handling systems/AVG and sheet metal enclosures in the relevant period, nor did they shift production to a foreign source.

In the request for reconsideration, the petitioners alleged that the basis for certification at an affiliated facility (Jervis B. Webb Company, New Hudson, Michigan, TA-W-41,440) was also a contributing factor in layoffs at the subject firm facilities in this investigation. In the case of workers at the New Hudson facility, workers were certified on the basis of a shift of production to Canada. One of the petitioners directed the Department to a specific company official.

A conversation with this company official revealed that there was no production shifted from the Harbor Springs, Pellston or Boyne City facilities to Canada.

The petitioners also alleged that the Department had not followed through with specific customer bid information provided in the initial investigation. The petitioners also indicated that these potential customers had awarded contracts to companies that produced abroad, and that the subject firm was excluded from competition due to competitive imports.

The Department conducted a bid survey of customers based on specified dates in the relevant period. Results of this survey revealed that either the contracts were awarded to domestic firms or, in cases where the contracts were awarded to companies that manufactured abroad, the subject firm was not the most competitive domestic bidder.

Conclusion

After review of the application and investigative findings, I conclude that there has been no error or misinterpretation of the law or of the facts which would justify reconsideration of the Department of Labor's prior decision. Accordingly, the application is denied.

Signed at Washington, DC this 8th day of March, 2004.
Elliott S. Kushner,
Certifying Officer, Division of Trade Adjustment Assistance.

[FR Doc. 04-6550 Filed 3-23-04; 8:45 am]

BILLING CODE 4510-30-P